DEPARTMENT OF LABOR

Employment and Training Administration

[TA-W-52,211]

Heraeus Quartztech, Inc., Fairfield, NJ; Notice of Termination of Investigation

Pursuant to section 221 of the Trade Act of 1974, as amended, an investigation was initiated on July 2, 2003, in response to a worker petition filed by a company official on behalf of workers at Heraeus Quartztech, Inc., Fairfield, New Jersey.

The petitioner has requested that the petition be with-drawn. Consequently, the investigation has been terminated.

Signed at Washington, DC, this 12th day of August, 2003.
Elliott S. Kushner,
Certifying Officer, Division of Trade Adjustment Assistance.

[FR Doc. 03-22275 Filed 8-29-03; 8:45 am]

BILLING CODE 4510-30-P